DEPARTMENT OF HEALTH AND HUMAN SERVICES

Nominations Requested for the 2011 Healthy Living Innovation Awards

AGENCY: Office of the Assistant Secretary for Planning and Evaluation, HHS.

ACTION: Notice.

SUMMARY: The Department of Health and Human Services (HHS) seeks nominations of public and private sector organizations to receive the 2011 Healthy Living Innovation Awards. The Awards are a part of Secretary Sebelius' Healthy Weight Initiative and HHS' continuing focus on highlighting preventive health and recognizing organizations that implement innovative approaches to address chronic diseases and promote healthier lifestyles. The statutory authority for this health promotion activity is Section 1703[42 U.S.C. 300u-2] from Title XVII of the Public Health Service Act. The Healthy Living Innovation Awards will identify and acknowledge innovative health promotion projects that demonstrated a significant impact on the health status of a community. Eligible organizations must have an innovative project in at least one of three health promotion areas:

(1) Healthy weight;

(2) Physical activity; and

(3) Nutrition.

The Department intends that these awards will provide an opportunity to increase public awareness of creative approaches to develop and expand innovative health programs and encourage duplication of successful strategies. Awards will be given in the following categories:

• Faith-Based and/or Community Initiatives

• Health Care Delivery

• Healthy Workplace

○ Large Employer> 500 employees

○ Small Employer< 500 employees

• Non-Profit

• Public Sector

• Schools (K-12)

• Let's Move! Cities and Towns

The following criteria will be taken into consideration upon review:

• Creativity and Innovation

• Leadership

• Sustainability

• Replicability

• Results/Outcomes

DATES: Nominations must be received by 11:59 p.m. EDT on March 1, 2011.

Nominations: NORC at the University of Chicago, a 501(c) (3) organization focused on health research, is coordinating the nomination process for the Healthy Living Innovation Awards on behalf of the HHS. Nominations can only be made electronically at http://HealthyLivingInnovation.Challenge.gov.

SUPPLEMENTARY INFORMATION: The Department of Health and Human Services is the U.S. government's principal agency for promoting and protecting the health of all Americans. The HHS manages many programs, covering a broad spectrum of health promotion and disease prevention services and activities. Leaders in the business community, State and local government officials, tribes and tribal entities, and charitable, faith-based, and community organizations have expressed an interest in working with the Department to promote healthy choices and behaviors. The Secretary welcomes this interest. With this notice, the Secretary outlines opportunities to identify and celebrate outstanding organizations that have implemented innovative and creative health promotion programs.

Dated: January 14, 2011.
Sherry Glied,
Assistant Secretary for Planning and Evaluation.

[FR Doc. 2011-1180 Filed 1-19-11; 8:45 am]

BILLING CODE 4150-05-P